DEPARTMENT OF HEALTH AND HUMAN SERVICES

Centers for Disease Control and Prevention

[Program Announcement 03112]

Enhancement of Antenatal Care Services and Blood Safety for Preventing Transmission of HIV, Syphilis, and Malaria in the Republic of Tanzania; Notice of Intent To Fund Single Eligibility Award

A. Purpose

The Centers for Disease Control and Prevention (CDC) announces the intent to fund fiscal year (FY) 2003 funds for a cooperative agreement program in the Republic of Tanzania for (1) the enhancement of antenatal care (ANC) services with emphasis on prevention of mother to child transmission (PMTCT) of HIV; and (2) the enhancement of blood safety with emphasis on preventing transmission of HIV, syphilis, and malaria. The Catalog of Federal Domestic Assistance number for this program is 93.941.

B. Eligible Applicants

Assistance will be provided only to the Department of Diagnostic Services (DDS) of the Ministry of Health (MOH) in Tanzania. No other applications are solicited.

The DDS is currently the only appropriate and qualified organization to conduct a specific set of activities supportive of the CDC Global AIDS Program's (GAP) goals for enhancing ANC services and blood safety in Tanzania for the following reasons:

1. The DDS is uniquely positioned, in terms of legal authority, ability, and credibility among Tanzanian citizens, to coordinate the implementation of national initiatives for PMTCT and blood safety.

2. The DDS has developed national PMTCT and blood safety guidelines, and strategic plans for enhancing PMTCT services and blood safety in Tanzania, which allows the DDS to immediately become engaged in the activities listed in this announcement.

3. The purpose of the announcement is to build upon the existing framework of health policy and programming that the MOH itself has initiated.

4. The MOH in Tanzania has been mandated by the Tanzanian constitution to coordinate and implement activities necessary for the control of epidemics, including HIV/AIDS and STDs.

C. Funding

Approximately $1,000,000 is available in FY 2003 to fund this award; $500,000 for enhancing ANC services, and $500,000 for blood safety. It is expected that the award will begin on or about September 1, 2003, and will be made for a 12-month budget period within a project period of up to five years. Approximately $1,000,000 will be available for years two through five of the project. Funding estimates may change.

D. Where To Obtain Additional Information

For general questions or comments about this announcement, contact: Technical Information Management, CDC Procurement and Grants Office, 2920 Brandywine Road, Atlanta, GA 30341-4146, Telephone: 770-488-2700.

For program technical assistance, contact: Eddas M. Bennett, Deputy Director, CDC Tanzania AIDS Program, National Center for HIV, STD, and TB Prevention, Centers for Disease Control and Prevention (CDC), 686 Old Bagamoyo Road, Dar es Salaam, Tanzania, Telephone: 255 222 667 8001 x4819, e-mail: ebennett@tancdc.co.tz.

Dated: June 1, 2003.
Sandra Manning,
Director, Procurement and Grants Office, Centers for Disease Control and Prevention.

[FR Doc. 03-17174 Filed 7-7-03; 8:45 am]

BILLING CODE 4163-18-P